DEPARTMENT OF THE INTERIOR

Fish and Wildlife Service

[FWS-HQ-IA-2014-N001]; [FXIA16710900000-134-FF09A30000]

Advisory Council on Wildlife Trafficking; Meeting

AGENCY: Fish and Wildlife Service, Interior.

ACTION: Notice of meeting.

SUMMARY: We, the U.S. Fish and Wildlife Service (Service), announce a public meeting of the Advisory Council on Wildlife Trafficking (Council). The Council's purpose is to provide expertise and support to the Presidential Task Force on Wildlife Trafficking.

DATES: The meeting will be held on March 20, 2014, from 11 a.m. to 5 p.m. Eastern Standard Time (EST). For information and deadlines for registering to attend or participate, see Procedures for Public Input and Attending the Meeting.

ADDRESSES: The meeting will be held in the Potomac Room at the Residence Inn Arlington Capital View, 2850 Potomac Ave., Arlington, VA 22202.

FOR FURTHER INFORMATION CONTACT: Mr. Cade London, Special Assistant, USFWS International Affairs, by email at cade_london@fws.gov (preferable method of contact); by U.S. mail at 4401 North Fairfax Drive, Room 110, Arlington, VA 22203; by telephone at (703) 358-2584; or by fax at (703) 358-2276.

SUPPLEMENTARY INFORMATION: In accordance with the requirements of the Federal Advisory Committee Act (5 U.S.C. App.), we announce that the Advisory Council on Wildlife Trafficking (Council) will hold a meeting to discuss the implementation of the National Strategy for Combating Wildlife Trafficking, and other Council business as appropriate.

Background

Pursuant to Executive Order 13648, the Advisory Council on Wildlife Trafficking was formed on August 30, 2013, to advise the Presidential Task Force on Wildlife Trafficking, through the Secretary of the Interior, on national strategies to combat wildlife trafficking, including but not limited to: (a) Effective support for anti-poaching activities; (b) coordinating regional law enforcement efforts; (c) developing and supporting effective legal enforcement mechanisms; and (d) developing strategies to reduce illicit trade and consumer demand for illegally traded wildlife, including protected species.

The eight-member Council, appointed by the Secretary of the Interior, includes former senior leadership within the U.S. Government, as well as chief executive officers and board members from conservation organizations and the private sector. For more information on the Council and its members, visit http://www.fws.gov/international/advisory-council-wildlife-trafficking/.

Meeting Agenda

The Council will consider:

1. Implementation topics associated with the National Strategy document, including, but not limited to, legal frameworks, communication, enforcement, and public/private partnerships;

2. Administrative topics; and

3. Public comment and response.

The final agenda will be posted on the Internet at http://www.fws.gov/international/advisory-council-wildlife-trafficking/.

Procedures for Public Input

Submitting Written Questions

Members of the public may submit written questions and/or information to Mr. London for the Council to consider during the meeting. Written questions and information must be received by Mr. London by close of business on March 17, 2014 (see FOR FURTHER INFORMATION CONTACT).

Making an Oral Presentation

Members of the public who want to make an oral presentation at the meeting will be prompted during the public comment section of the meeting to provide their presentation and/or questions. Such presentations may be limited to a total of 30 minutes, to be distributed among all speakers. However, where time permits and if deemed appropriate by the Council Chair and the Designated Federal Official, additional time for public comment may be allotted.

Registered speakers who wish to expand on their oral statements, or those who wanted to speak but could not be accommodated on the agenda, are invited to submit subsequent written statements to the Council after the meeting. Such written statements must be received by Mr. London, in writing (preferably via email), no later than March 27, 2014.

Attending the Meeting

Registering

In order to attend this meeting, you must register by close of business Monday, March 17, 2014. Please submit your name, email address, and phone number to Mr. London to complete the registration process (see FOR FURTHER INFORMATION CONTACT).

Requesting Reasonable Accommodations

Members of the public requesting reasonable accommodations, such as hearing interpreters, must contact Mr. London, in writing (preferably by email), no later than March 10, 2014.

Obtaining Meeting Minutes

Summary minutes of the meeting will be maintained at 4401 N. Fairfax Drive, Room 110, Arlington, VA 22203, available for public inspection during regular business hours, and on the Council Web site at http://www.fws.gov/international/advisory-council-wildlife-trafficking/.

Dated: February 26, 2014.
Tina A. Campbell,
Chief, Division of Policy and Directives Management, U.S. Fish and Wildlife Service.

[FR Doc. 2014-04676 Filed 3-3-14; 8:45 am]

BILLING CODE 4310-55-P